DEPARTMENT OF EDUCATION

[CFDA NO: 84.349A]

Early Childhood Educator Professional Development Program; Notice Inviting Applications for New Awards for Fiscal Year (FY) 2003

Purpose of Program

The purpose of the Early Childhood Educator Professional Development Program, authorized by section 2151(e) of the Elementary and Secondary Education Act (ESEA) as added by the No Child Left Behind Act, Public Law 107-110, is to enhance the school readiness of young children, particularly disadvantaged young children, and to prevent them from encountering difficulties once they enter school. The program is designed to improve the knowledge and skills of early childhood educators who work in communities that have high concentrations of children living in poverty.

Projects funded under the Early Childhood Educator Professional Development Program provide high-quality, sustained, and intensive professional development for these early childhood educators in how to provide developmentally appropriate school-readiness services for preschool-age children that are based on the best available research on early childhood pedagogy and on child development and learning, including the age-appropriate development of oral language, phonological awareness, print awareness, alphabet knowledge, and numeracy skills. These grants are part of the President's early childhood initiative, “Good Start, Grow Smart,” and complement other early learning grant programs, such as Early Reading First, by helping States and local communities strengthen early learning for young children. The Department intends to disseminate information about the funded projects that prove to be effective professional development.

Eligible Applicants

A partnership consisting of at least one entity from each of the following categories, as indicated below—

(i) One or more institutions of higher education, or other public or private entities (including faith-based organizations), that provide professional development for early childhood educators who work with children from low-income families in high-need communities; and

(ii) One or more public agencies (including local educational agencies, State educational agencies, State human services agencies, and State and local agencies administering programs under the Child Care and Development Block Grant Act of 1990), Head Start agencies, or private organizations (including faith-based organizations); and

(iii) If feasible, an entity with demonstrated experience in providing training to educators in early childhood education programs concerning identifying and preventing behavior problems or working with children identified as or suspected to be victims of abuse. This entity may be one of the partners described above, if appropriate.

Applications Available: March 31, 2003.

Deadline for Transmittal of Applications: May 16, 2003.

Deadline for Intergovernmental Review: July 15, 2003.

Estimated Available Funds: $14,875,000.

Estimated Range of Awards: $1,200,000-$2,800,000.

Estimated Average Size of Awards: $2,000,000.

Estimated Number of Awards: 5-12 awards.

Note: The Department is not bound by any estimates in this notice.

Project Period: Up to 2 years.

Applicable Regulations: The following provisions of the Education Department General Administrative Regulations (EDGAR) apply to these Early Childhood Educator Professional Development program grants: 34 CFR parts 74, 75, 77, 79, 80, 81, 82, 85, 86, 97, 98, and 99.

These regulations are available at the following Web site: http://www.ed.gov/offices/OCFO/grants/edgar.html.

Matching and Use of Funds Requirements

Cost-sharing: Each partnership carrying out a project through an Early Childhood Educator Professional Development Program grant under this program must provide a cost share of (1) at least 50 percent of the total cost of the project for the entire grant period; and (2) at least 20 percent of the project cost for each year. The project may provide this cost share from any source other than funds under this program, including other Federal sources.

The partnership may provide the project cost share through contributions of cash or in-kind, fairly evaluated, including plant, equipment, and services. Only allowable costs may be counted as part of the cost share. For example, any indirect costs over and above the allowable amount (see “Indirect Costs” section under this heading) may not be counted toward a grantee's cost share.

Indirect Costs: For purposes of indirect cost charges, the Secretary considers all Early Childhood Educator Professional Development Program grants to be “educational training grants” within the meaning of section 75.562(a) of EDGAR (34 CFR 75.562(a)). Consistent with 34 CFR 75.562, the indirect cost rate for any fiscal agent other than a State agency or agency of local government (such as a local educational agency) is limited to a maximum of eight percent or the amount permitted by the fiscal agent's negotiated indirect cost rate agreement, whichever is less. Further information about indirect cost rates, and on how to apply for a negotiated indirect cost rate for fiscal agents that do not yet have one, is available at the following Web site: http://www.ed.gov/offices/OCFO/FIPAO/icgindex.html.

Pre-award Costs: The Department's regulations authorize grant recipients to incur allowable pre-award costs up to 90 calendar days before the grant award (sections 75.263 and 74.25(e)(1) of EDGAR, 34 CFR 75.263 and 74.25(e)(1)). In this case, pre-award costs may include the necessary and reasonable costs of the needs assessment that the statute requires applicants to conduct before submitting their applications, to determine the most critical professional development needs of the early childhood educators to be served by the project and in the broader community. The Secretary extends the period for recipients to charge necessary and reasonable pre-award costs incurred related to the needs assessment for these grants for up to 90 days before the application due date. Applicants incur any pre-award costs at their own risk. That is, the Secretary is under no obligation to reimburse these costs if for any reason the applicant does not receive an award or if the award is less than anticipated and inadequate to cover these costs.

SUPPLEMENTARY INFORMATION:

Background

These Early Childhood Educator Professional Development Program grants will provide a small but significant base of high-quality, intensive, replicable, professional development programs for early childhood educators. These programs will be based on the best available research on both effective adult professional development approaches, and on early childhood pedagogy and on child development and learning, including the age-appropriate development of oral language, phonological awareness, print awareness, alphabet knowledge, and numeracy skills. The grants are particularly important because there is a critical need for more high-quality, intensive, research-based professional development programs for early childhood educators to enable them to help young children better develop the knowledge, skills, and dispositions necessary for school readiness.

These grants will fund projects that carry out activities to improve the knowledge and skills of early childhood educators working in early childhood programs that are located in high-need communities. Under the invitational priority identified in this notice, the Secretary is particularly interested in proposals that focus on providing professional development for early childhood educators to work with children who have limited English proficiency, children with disabilities as identified under Parts B or C of the Individuals with Disabilities Education Act, and children with other special needs. An application that meets this invitational priority, however, receives no competitive or absolute preference over applications that do not meet the priority.

The specific activities for which recipients may use grant funds are identified in the application package. The Secretary will expect funded projects to use rigorous methodologies to measure progress toward attaining project objectives and the final achievement indicators that are described in this notice under Achievement Indicators.

Definitions

The following terms used in the application package for this grant competition have specific statutory meanings that are included in that package: “child with a disability,” “early childhood educator,” “high-need community,” “low-income family,” “poverty line,” “professional development,” and “scientifically based research.” The Secretary strongly encourages applicants to review the statutory definitions of these terms before preparing their grant applications.

Applications

Early Childhood Educator Professional Development Program grants for FY 2003 will be awarded through a competitive process. The statute requires each applicant to submit an application that contains specific information and assurances that are described in the application package. Applicants must meet a statutory requirement to be eligible for consideration for funding, and must address the selection criteria from section 75.210 of EDGAR that are identified in the application package. The application narrative addressing the statutory requirement, the selection criteria, and other information identified in the application package is limited to 30 double-spaced, typed pages. The Appendices, including the required Partnership Agreement, are not part of this page limit. The additional budget narrative is limited to 5 double-spaced, typed pages. Other application materials are limited to the specific materials indicated in the application package, and may not include any video or other non-print materials.

Achievement Indicators

On January 6, 2003, the Secretary published in the Federal Register (68 FR 547-548) proposed achievement indicators for these grants. After receiving public comment, the Secretary now is publishing the following final achievement indicators in accordance with section 2151(e)(6) of the ESEA, elsewhere in this issue of the Federal Register. That Notice of Final Achievement Indicators contains the Secretary's response to submitted public comments to the proposed achievement indicators. The Notice of Final Achievement Indicators also is posted on the Department's website at the following address: http://www.ed.gov/offices/OESE/SASA/ecprofdev.html.

These final achievement indicators will govern these FY 2003 grants. Applicants must describe in their applications how their project objectives and measurement methods are aligned with these final achievement indicators, and report annually on their progress toward attaining these indicators.

Final Achievement Indicators

In accordance with the timeline included in the approved application:

Indicator 1: Projects will offer an increasing number of hours of high-quality professional development to early childhood educators. High-quality professional development is ongoing, intensive, classroom-focused, and based on scientific research on early childhood cognitive and social development, including the age-appropriate development of oral language, phonological awareness, print awareness, alphabet knowledge, and numeracy skills, and on effective pedagogy for young children. High-quality professional development also includes instruction in the effective administration of age-appropriate assessments of young children and the use of assessment results.

Indicator 2: Early childhood educators who work in early childhood programs serving low-income children will participate in greater numbers, and in increasing numbers of hours, in high-quality professional development.

Indicator 3: Early childhood educators will demonstrate increased knowledge and understanding of effective strategies to support school readiness based on scientific research on cognitive and social development in early childhood and effective pedagogy for young children, and in the effective administration of age-appropriate assessments of young children and the use of assessment results.

Indicator 4: Early childhood educators will more frequently apply research-based approaches in early childhood pedagogy and child development and learning domains, including using a content-rich curriculum and activities that promote the age-appropriate development of oral language, age-appropriate social and emotional behavior, phonological awareness, print awareness, alphabet knowledge, and numeracy skills. Early childhood educators also will more frequently participate in the effective administration of age-appropriate assessments of young children and the use of assessment results.

Indicator 5: Children will demonstrate improved readiness for school, especially in the areas of appropriate social and emotional behavior and early language, literacy, and numeracy skills.

Statutory Requirement—High-Need Communities: Section 2151(e)(5)(A) of the ESEA (20 U.S.C. 6651(e)(5)(A)) requires that grant funds be used to carry out activities that will improve the knowledge and skills of early childhood educators who are working in early childhood programs that are located in high-need communities. Thus, the statute requires that each early childhood program, in which the early childhood educators work who will receive professional development under the project, must be located in a “high-need community.” To be considered for funding under this program, an eligible applicant must demonstrate in its application narrative how it meets this statutory requirement by including relevant demographic and socioeconomic information about those communities. “High-need community,” as defined in section 2151(e)(9)(B) of the ESEA, means: (a) A political subdivision of a State, or a portion of a political subdivision of a State, in which at least 50 percent of the children are from low-income families; or (b) a political subdivision of a State that is among the 10 percent of political subdivisions of the State having the greatest numbers of such children.

The Secretary will fund under this competition only applications that meet this statutory requirement.

Note: The following terms used in this statutory requirement have statutory definitions that are included in the application package: “early childhood educator,” “high-need community,” “low-income family,” and “professional development.”

Invitational Priority—Special Needs Children: The Secretary is particularly interested in receiving applications that propose to focus on providing professional development for early childhood educators to work with young children who have limited English proficiency, children with disabilities as identified under parts B or C of the Individuals with Disabilities Education Act, and children with other special needs.

Note: The following term used in this invitational priority has a statutory definition that is included in the application package: “child with a disability.”

Under section 75.105(c)(1) of EDGAR (34 CFR 75.105(c)(1)), an application that meets this invitational priority receives no competitive or absolute preference over applications that do not meet the priority.

Selection Criteria

The Secretary will use selection criteria from section 75.210 of EDGAR (34 CFR 75.210) to evaluate applications under this competition. Those selection criteria are identified in the application package. The Secretary will use the procedures in § 75.217 of EDGAR (34 CFR 75.217) to select applications for funding.

For Applications Contact: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html

Or you may contact ED Pubs at its e-mail address: edpubs@inet.ed.gov

If you request an application from ED Pubs, be sure to identify this competition as follows: CFDA number 84.349A. The public also may obtain a copy of the application package on the Department's website at the following address: http://www.ed.gov/offices/OESE/SASA/ecprofdev.html.

FOR FURTHER INFORMATION CONTACT: Melanie Kadlic, U.S. Department of Education, Student Achievement and School Accountability Programs, Office of Elementary and Secondary Education, 400 Maryland Avenue SW., Washington, DC 20202-6132. Telephone: (202) 260-3793, or via Internet: Melanie.Kadlic@ed.gov.

If you use a telecommunications device for the deaf (TDD), you may call the Federal Information Relay Service (FIRS) at 1-800-877-8339.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/fedregister.

To use PDF, you must have Adobe Acrobat Reader, which is available free at that site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6651(e).

Dated: March 26, 2003.
Eugene W. Hickok,
Under Secretary.

[FR Doc. 03-7763 Filed 3-28-03; 8:45 am]

BILLING CODE 4000-01-P